DEPARTMENT OF TRANSPORTATION

Federal Aviation Administration

14 CFR Part 39

[Docket No. FAA-2017-0691; Product Identifier 2017-NM-029-AD; Amendment 39-19068; AD 2017-20-11]

RIN 2120-AA64

Airworthiness Directives; Bombardier, Inc., Airplanes

AGENCY: Federal Aviation Administration (FAA), Department of Transportation (DOT).

ACTION: Final rule.

SUMMARY: We are adopting a new airworthiness directive (AD) for certain Bombardier, Inc., Model CL-600-1A11 (CL-600), CL-600-2A12 (CL-601 Variant), and CL-600-2B16 (CL-601-3A and CL-601-3R Variants) airplanes. This AD was prompted by a report of laminated shims that may have been improperly installed at a certain wing tie beam. This AD requires revising the maintenance or inspection program to incorporate certification maintenance requirement tasks that introduce revised checks of the tie beam. We are issuing this AD to address the unsafe condition on these products.

DATES: This AD is effective November 15, 2017.

The Director of the Federal Register approved the incorporation by reference of certain publications listed in this AD as of November 15, 2017.

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this referenced service information at the FAA, Transport Standards Branch, 1601 Lind Avenue SW., Renton, WA. For information on the availability of this material at the FAA, call 425-227-1221. It is also available on the Internet at http://www.regulations.gov by searching for and locating Docket No. FAA-2017-0691.

Examining the AD Docket

You may examine the AD docket on the Internet at http://www.regulations.gov by searching for and locating Docket No. FAA-2017-0691; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Aziz Ahmed, Aerospace Engineer, Airframe and Mechanical Systems Section, FAA, New York ACO Branch, 1600 Stewart Avenue, Suite 410, Westbury, NY 11590; telephone 516-228-7329; fax 516-794-5531.

SUPPLEMENTARY INFORMATION:

Discussion

We issued a notice of proposed rulemaking (NPRM) to amend 14 CFR part 39 by adding an AD that would apply to certain Bombardier, Inc., Model CL-600-1A11 (CL-600), CL-600-2A12 (CL-601 Variant), and CL-600-2B16 (CL-601-3A and CL-601-3R Variants) airplanes. The NPRM published in the Federal Register on July 17, 2017 (82 FR 32652) (“the NPRM”). The NPRM was prompted by a report of laminated shims that may have been improperly installed at a certain wing tie beam. The NPRM proposed to require revising the maintenance or inspection program to incorporate certification maintenance requirement tasks that introduce revised checks of the tie beam. We are issuing this AD to detect and correct degradation of the structural integrity of the affected tie beam, which could result in cracking of the pressure floor.

Transport Canada Civil Aviation (TCCA), which is the aviation authority for Canada, has issued Canadian Airworthiness Directive CF-2016-34, dated October 14, 2016 (referred to after this as the Mandatory Continuing Airworthiness Information, or “the MCAI”), to correct an unsafe condition for certain Bombardier, Inc., Model CL-600-1A11 (CL-600), CL-600-2A12 (CL-601 Variant), and CL-600-2B16 (CL-601-3A and CL-601-3R Variants) airplanes. The MCAI states:

Bombardier has determined that laminated shims may have been improperly installed at the floor/wing tie beam bumper pads. Improperly installed shims may become damaged, which could result in a gapping condition. This would lead to increased stress and degradation of structural integrity of the tie beam. Undetected failure may lead to premature cracking of the pressure floor.

Bombardier has introduced revised maintenance tasks through revisions of the applicable CL-600 Time Limits Maintenance Checks (TLMCs) to confirm structural integrity of the affected tie beam.

This [Canadian] AD is issued to mandate the incorporation of the applicable revised TLMC tasks.

You may examine the MCAI in the AD docket on the Internet at http://www.regulations.gov by searching for and locating Docket No. FAA-2017-0691.

This AD requires revisions to certain operator maintenance documents to include new actions (e.g., inspections). Compliance with these actions is required by 14 CFR 91.403(c). For airplanes that have been previously modified, altered, or repaired in the areas addressed by this AD, the operator may not be able to accomplish the actions described in the revisions. In this situation, to comply with 14 CFR 91.403(c), the operator must request approval for an alternative method of compliance according to paragraph (i)(1) of this AD. The request should include a description of changes to the required actions that will ensure the continued operational safety of the airplane.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Bombardier, Inc., has issued the following service information.

• Task 53-10-00-131, “Pressure Floor—Wing Tie Beam—FS460.00,” of Section 5-10-30, “Airworthiness Limitation Checks by ATA Chapter Number,” of Bombardier Challenger 600 Time Limits/Maintenance Checks, Publication No. PSP 605, Revision 37, dated April 29, 2016.

• Task 53-10-00-133, “Pressure Floor—Wing Tie Beam—FS460.00,” of Section 5-10-30, “Airworthiness Limitation Checks by ATA Chapter Number,” of Bombardier Challenger 601 Time Limits/Maintenance Checks, Publication No. PSP 601-5, Revision 44, dated April 29, 2016.

• Task 53-10-00-134, “Pressure Floor—Wing Tie Beam—FS460.00,” of Section 5-10-30, “Airworthiness Limitation Checks by ATA Chapter Number,” of Bombardier Challenger 601 Time Limits/Maintenance Checks, Publication No. PSP 601A-5, Revision 40, dated April 29, 2016.

This service information identifies airworthiness limitation tasks for checks of the pressure floor at a certain wing tie beam. These documents are distinct since they apply to different airplane models. This service information is reasonably available because the interested parties have access to it through their normal course of business or by the means identified in the ADDRESSES section.

Costs of Compliance

We estimate that this AD affects 137 airplanes of U.S. registry.

We estimate the following costs to comply with this AD:

Estimated Costs
Action | Labor cost | Parts cost | Cost per product | Cost on U.S. operators
Maintenance or inspection program revision | 1 work-hour × $85 per hour = $85 | $0 | $85 | $11,645

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-20-11 Bombardier, Inc.: Amendment 39-19068; Docket No. FAA-2017-0691; Product Identifier 2017-NM-029-AD.

(a) Effective Date

This AD is effective November 15, 2017.

(b) Affected ADs

None.

(c) Applicability

This AD applies to Bombardier, Inc., Model CL-600-1A11 (CL-600) airplanes, serial numbers 1004 through 1085 inclusive; Model CL-600-2A12 airplanes (CL-601 Variant), serial numbers 3001 through 3066 inclusive; and Model CL-600-2B16 (CL-601-3A and CL-601-3R Variants) airplanes, serial numbers 5001 through 5194 inclusive; certificated in any category.

(d) Subject

Air Transport Association (ATA) of America Code 53, Fuselage.

(e) Reason

This AD was prompted by a report of laminated shims that may have been improperly installed at a certain wing tie beam. We are issuing this AD to detect and correct degradation of the structural integrity of the affected tie beam, which could result in cracking of the pressure floor.

(f) Compliance

Comply with this AD within the compliance times specified, unless already done.

(g) Maintenance or Inspection Program Revision

Within 30 days after the effective date of this AD, revise the maintenance or inspection program, as applicable, to incorporate the certification maintenance requirement (CMR) task specified in the applicable service information identified in paragraphs (g)(1) through (g)(3) of this AD. The initial compliance time for the task is within the applicable time specified in the service information, or within 30 days after the effective date of this AD, whichever occurs later.

(1) For Model CL-600-1A11 (CL-600) airplanes: Task 53-10-00-131, “Pressure Floor—Wing Tie Beam—FS460.00,” of Section 5-10-30, “Airworthiness Limitation Checks by ATA Chapter Number,” of Bombardier Challenger 600 Time Limits/Maintenance Checks, Publication No. PSP 605, Revision 37, dated April 29, 2016.

(2) For Model CL-600-2A12 airplanes (CL-601 Variant) airplanes: Task 53-10-00-133, “Pressure Floor—Wing Tie Beam—FS460.00,” of Section 5-10-30, “Airworthiness Limitation Checks by ATA Chapter Number,” of Bombardier Challenger 601 Time Limits/Maintenance Checks, Publication No. PSP 601-5, Revision 44, dated April 29, 2016.

(3) For Model CL-600-2B16 (CL-601-3A and CL-601-3R Variants) airplanes: Task 53-10-00-134, “Pressure Floor—Wing Tie Beam—FS460.00,” of Section 5-10-30, “Airworthiness Limitation Checks by ATA Chapter Number,” of Bombardier Challenger 601 Time Limits/Maintenance Checks, Publication No. PSP 601A-5, Revision 40, dated April 29, 2016.

(h) No Alternative Actions or Intervals

After the maintenance or inspection program has been revised as required by paragraph (g) of this AD, no alternative actions (e.g., inspections) or intervals may be used unless the actions or intervals are approved as an alternative method of compliance (AMOC) in accordance with the procedures specified in paragraph (i)(1) of this AD.

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian Airworthiness Directive CF-2016-34, dated October 14, 2016, for related information. This MCAI may be found in the AD docket on the Internet at http://www.regulations.gov by searching for and locating Docket No. FAA-2017-0691.

(2) For more information about this AD, contact Aziz Ahmed, Aerospace Engineer, Airframe and Mechanical Systems Section, FAA, New York ACO Branch, 1600 Stewart Avenue, Suite 410, Westbury, NY 11590; telephone 516-228-7329; fax 516-794-5531.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Task 53-10-00-131, “Pressure Floor—Wing Tie Beam—FS460.00,” of Section 5-10-30, “Airworthiness Limitation Checks by ATA Chapter Number,” of Bombardier Challenger 600 Time Limits/Maintenance Checks, Publication No. PSP 605, Revision 37, dated April 29, 2016. The revision level of this document is identified on only the Transmittal Letter.

(ii) Task 53-10-00-133, “Pressure Floor—Wing Tie Beam—FS460.00,” of Section 5-10-30, “Airworthiness Limitation Checks by ATA Chapter Number,” of Bombardier Challenger 601 Time Limits/Maintenance Checks, Publication No. PSP 601-5, Revision 44, dated April 29, 2016. The revision level of this document is identified on only the Transmittal Letter.

(iii) Task 53-10-00-134, “Pressure Floor—Wing Tie Beam—FS460.00,” of Section 5-10-30, “Airworthiness Limitation Checks by ATA Chapter Number,” of Bombardier Challenger 601 Time Limits/Maintenance Checks, Publication No. PSP 601A-5, Revision 40, dated April 29, 2016. The revision level of this document is identified on only the Transmittal Letter.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 27, 2017.
Dionne Palermo,
Acting Director, System Oversight Division, Aircraft Certification Service.

[FR Doc. 2017-21374 Filed 10-10-17; 8:45 am]

BILLING CODE 4910-13-P